DEPARTMENT OF STATE

[Public Notice 5486]

Determination To Waive the Certification Requirement That the Government of Afghanistan Is Cooperating Fully With U.S.-Funded Poppy Eradication and Interdiction Efforts in Afghanistan

Pursuant to the Foreign Operations, Export Financing, and Related Programs Appropriations Act for Fiscal Year 2006 (Pub. L. 109-102) (“the Act”) under the heading Economic Support Fund, provisos 11 through 13, and the May 8, 2006 Assignment of Function from the President to the Secretary of State, I hereby determine that it is vital to the national security interests of the United States to waive the requirement that the Secretary of State certify to the Committees on Appropriations that the Government of Afghanistan at both the national and local level is cooperating fully with the United States-funded poppy eradication and interdiction efforts in Afghanistan.

This determination shall be reported to the Congress, accompanied by a report in accordance with the Act, and published in the Federal Register.

Dated: May 22, 2006.
Condoleezza Rice,
Secretary of State, Department of State.

[FR Doc. E6-12980 Filed 8-8-06; 8:45 am]

BILLING CODE 4710-17-P